DEPARTMENT OF COMMERCE

Foreign-Trade Zones Board

[B-82-2013]

Foreign-Trade Zone 203—Moses Lake, Washington; Authorization of Production Activity; AREVA Inc. (Fuel Rod Assemblies); Richland, Washington

On August 29, 2013, the Port of Moses Lake Public Corporation, grantee of FTZ 203, submitted a notification of proposed production activity to the Foreign-Trade Zones (FTZ) Board on behalf of AREVA Inc., within Site 4 of FTZ 203, in Richland, Washington.

The notification was processed in accordance with the regulations of the FTZ Board (15 CFR part 400), including notice in the Federal Register inviting public comment (78 FR 56655, 9-13-2013). The FTZ Board has determined that no further review of the activity is warranted at this time. The production activity described in the notification is authorized, subject to the FTZ Act and the Board's regulations, including Section 400.14.

Dated: January 13, 2014.
Andrew McGilvray,
Executive Secretary.

[FR Doc. 2014-00920 Filed 1-16-14; 8:45 am]

BILLING CODE 3510-DS-P